DEPARTMENT OF AGRICULTURE

Rural Housing Service

7 CFR Part 1942

RIN 0575-AC53

Fire and Rescue and Other Community Facilities Projects

AGENCY: Rural Housing Service, USDA.

ACTION: Direct final rule; correction.

SUMMARY: The Rural Housing Service amended its regulation to include all essential community facility projects $300,000 and under to utilize the authority granted for fire and rescue loans. This document corrects the rule, which was published Monday, November 24, 2003.

EFFECTIVE DATE: February 9, 2004.

FOR FURTHER INFORMATION CONTACT: Cheryl Thompson, Management Analyst, Regulations and Paperwork Management Branch, Support Services Division, U.S. Department of Agriculture, STOP 0742, 1400 Independence Avenue SW., Washington, DC 20250-0742; Telephone: 202-692-0043.

SUPPLEMENTARY INFORMATION:

Need for Correction

As published in the direct final rule, due to an amendatory instruction error, which may be unclear, this action corrects amendatory instruction number 6 to clarify the intent of the regulation change.

Correction of Publication

In FR rule document 03-29212, published November 24, 2003 (68 FR 65829), make the following correction.

On page 65830, in the middle column, amendatory instruction number 6 is corrected to read as follows:

§ 1942.104 [Corrected]

6. In § 1942.104, paragraph (a) is revised, paragraphs (b) and (c) are removed, and paragraph (d) is redesignated as paragraph (b) and revised. (The undesignated text following newly designated paragraph (b) remains unchanged).

Dated: December 5, 2003.
Arthur A. Garcia,
Administrator, Rural Housing Service.

[FR Doc. 03-30670 Filed 12-10-03; 8:45 am]

BILLING CODE 3410-XV-P